INTERNATIONAL TRADE COMMISSION

[USITC SE-18-047]

Government in the Sunshine Act Meeting Notice

Agency Holding the Meeting:

United States International Trade Commission.

Time and Date: October 23, 2018 at 11:00 a.m.

Place: Room 101, 500 E Street SW, Washington, DC 20436, Telephone: (202) 205-2000.

Status: Open to the public.

Matters to be Considered:

1. Agendas for future meetings: None.

2. Minutes.

3. Ratification List.

4. Vote on Inv. No. 731-TA-1203 (Review) (Xanthan Gum from China). The Commission is currently scheduled to complete and file its determination and views of the Commission by November 15, 2018.

5. Vote on Inv. Nos. 731-TA-873-875, 878-880, and 882 (Third Review) (Steel Concrete Reinforcing Bar from Belarus, China, Indonesia, Latvia, Moldova, Poland, and Ukraine). The Commission is currently scheduled to complete and file its determinations and views of the Commission by November 15, 2018.

6. Outstanding action jackets: None.

In accordance with Commission policy, subject matter listed above, not disposed of at the scheduled meeting, may be carried over to the agenda of the following meeting.

By order of the Commission:

Issued: October 15, 2018.
William Bishop,
Supervisory Hearings and Information Officer.

[FR Doc. 2018-22798 Filed 10-16-18; 11:15 am]

BILLING CODE 7020-02-P